DEPARTMENT OF ENERGY

Federal Energy Regulatory Commission

Combined Notice of Filings #1

Take notice that the Commission received the following exempt wholesale generator filings:

Docket Numbers: EG20-117-000.

Applicants: Huntley Solar, LLC.

Description: Notice of Self-Certification of Exempt Wholesale Generator Status of Huntley Solar, LLC.

Filed Date: 4/17/20.

Accession Number: 20200417-5283.

Comments Due: 5 p.m. ET 5/8/20.

Docket Numbers: EG20-118-000.

Applicants: Cubico Huntley Lessee, LLC.

Description: Notice of Self-Certification of Exempt Wholesale Generator Status of Cubico Huntley Lessee, LLC.

Filed Date: 4/17/20.

Accession Number: 20200417-5284.

Comments Due: 5 p.m. ET 5/8/20.

Docket Numbers: EG20-119-000.

Applicants: Richmond Spider Solar, LLC.

Description: Self-Certification of EWG of Richmond Spider Solar, LLC.

Filed Date: 4/20/20.

Accession Number: 20200420-5016.

Comments Due: 5 p.m. ET 5/11/20.

Docket Numbers: EG20-120-000.

Applicants: Pleinmont Solar 2, LLC.

Description: Self-Certification of EG or FC of Pleinmont Solar 2, LLC.

Filed Date: 4/20/20.

Accession Number: 20200420-5017.

Comments Due: 5 p.m. ET 5/11/20.

Docket Numbers: EG20-121-000.

Applicants: Pleinmont Solar 1, LLC.

Description: Self-Certification of EG of Pleinmont Solar 1, LLC.

Filed Date: 4/20/20.

Accession Number: 20200420-5018.

Comments Due: 5 p.m. ET 5/11/20.

Docket Numbers: EG20-122-000.

Applicants: Highlander Solar Energy Station 1, LLC.

Description: Self-Certification of EG of Highlander Solar Energy Station 1, LLC.

Filed Date: 4/20/20.

Accession Number: 20200420-5019.

Comments Due: 5 p.m. ET 5/11/20.

Docket Numbers: EG20-123-000.

Applicants: Highlander IA, LLC.

Description: Self-Certification of EG of Highlander IA, LLC.

Filed Date: 4/20/20.

Accession Number: 20200420-5020.

Comments Due: 5 p.m. ET 5/11/20.

Docket Numbers: EG20-124-000.

Applicants: Lone Tree Wind, LLC.

Description: Notice of Self-Certification of Exempt Wholesale Generator Status of Lone Tree Wind, LLC.

Filed Date: 4/20/20.

Accession Number: 20200420-5079.

Comments Due: 5 p.m. ET 5/11/20.

Docket Numbers: EG20-125-000.

Applicants: Techren Solar III LLC.

Description: Self-Certification of Techren Solar III LLC.

Filed Date: 4/20/20.

Accession Number: 20200420-5081.

Comments Due: 5 p.m. ET 5/11/20.

Docket Numbers: EG20-126-000.

Applicants: Techren Solar IV LLC.

Description: Self-Certification of EG of Techren Solar IV LLC.

Filed Date: 4/20/20.

Accession Number: 20200420-5082.

Comments Due: 5 p.m. ET 5/11/20.

Take notice that the Commission received the following electric rate filings:

Docket Numbers: ER06-1128-003.

Applicants: Mankato Energy Center, LLC.

Description: Notification of non-material change in status of Mankato Energy Center, LLC.

Filed Date: 4/17/20.

Accession Number: 20200417-5277.

Comments Due: 5 p.m. ET 5/8/20.

Docket Numbers: ER19-1916-002.

Applicants: Louisville Gas and Electric Company.

Description: Compliance filing: Order No. 845 and 845-A Compliance to be effective 5/22/2019.

Filed Date: 4/20/20.

Accession Number: 20200420-5044.

Comments Due: 5 p.m. ET 5/11/20.

Docket Numbers: ER19-2029-002.

Applicants: Mankato Energy Center II, LLC.

Description: Notification of non-material change in status of Mankato Energy Center II, LLC.

Filed Date: 4/17/20.

Accession Number: 20200417-5276.

Comments Due: 5 p.m. ET 5/8/20.

Docket Numbers: ER19-2821-000, TS19-4-000.

Applicants: Upper Missouri G. & T. Electric Cooperative, Inc.

Description: Supplement to September 16, 2019 Request for Waiver of Open-Access Requirements of Order Nos. 888, et al. of Upper Missouri G. & T. Electric Cooperative, Inc.

Filed Date: 4/16/20.

Accession Number: 20200416-5158.

Comments Due: 5 p.m. ET 5/7/20.

Docket Numbers: ER20-1594-000.

Applicants: Highlander IA, LLC.

Description: Baseline eTariff Filing: Highlander IA Market Based Rate Application to be effective 4/18/2020.

Filed Date: 4/17/20.

Accession Number: 20200417-5181.

Comments Due: 5 p.m. ET 5/8/20.

Docket Numbers: ER20-1595-000.

Applicants: PJM Interconnection, L.L.C.

Description: Tariff Cancellation: Notice of Cancellation of ISA, SA No. 1816; Queue No. U1-032 re Deactivation to be effective 6/25/2020.

Filed Date: 4/17/20.

Accession Number: 20200417-5177.

Comments Due: 5 p.m. ET 5/8/20.

Docket Numbers: ER20-1596-000.

Applicants: Pleinmont Solar 1, LLC.

Description: Baseline eTariff Filing: Pleinmont Solar 1 MBR Tariff to be effective 4/18/2020.

Filed Date: 4/17/20.

Accession Number: 20200417-5227.

Comments Due: 5 p.m. ET 5/8/20.

Docket Numbers: ER20-1597-000.

Applicants: Pleinmont Solar 2, LLC.

Description: Baseline eTariff Filing: Pleinmont Solar 2 Market Based Rate App to be effective 4/18/2020.

Filed Date: 4/17/20.

Accession Number: 20200417-5241.

Comments Due: 5 p.m. ET 5/8/20.

Docket Numbers: ER20-1598-000.

Applicants: Puget Sound Energy, Inc.

Description: § 205(d) Rate Filing: Certificate of Concurrence to LGIA Between Northern Grid and Puget Sound Energy to be effective 4/9/2020.

Filed Date: 4/17/20.

Accession Number: 20200417-5244.

Comments Due: 5 p.m. ET 5/8/20.

Docket Numbers: ER20-1599-000.

Applicants: Richmond Spider Solar, LLC.

Description: Baseline eTariff Filing: Richmond Spider Solar MBR App to be effective 4/18/2020.

Filed Date: 4/17/20.

Accession Number: 20200417-5245.

Comments Due: 5 p.m. ET 5/8/20.

Docket Numbers: ER20-1600-000.

Applicants: Cubico Huntley Lessee, LLC.

Description: Baseline eTariff Filing: Application for MBR Authority, Waivers, Blanket Authority, Confidential Treatment to be effective 4/18/2020.

Filed Date: 4/17/20.

Accession Number: 20200417-5247.

Comments Due: 5 p.m. ET 5/8/20.

Docket Numbers: ER20-1601-000.

Applicants: Huntley Solar, LLC.

Description: Baseline eTariff Filing: Application for MBR Authority, Waivers, Blanket Authority, Confidential Treatment to be effective 4/18/2020.

Filed Date: 4/17/20.

Accession Number: 20200417-5249.

Comments Due: 5 p.m. ET 5/8/20.

Docket Numbers: ER20-1602-000.

Applicants: New York Independent System Operator, Inc., New York State Electric & Gas Corporation.

Description: § 205(d) Rate Filing: SGIA 2526 among NYISO, NYSEG & Duke Energy Renewables Solar—Niagara Solar to be effective 4/6/2020.

Filed Date: 4/20/20.

Accession Number: 20200420-5090.

Comments Due: 5 p.m. ET 5/11/20.

Docket Numbers: ER20-1603-000.

Applicants: New York Independent System Operator, Inc., New York State Electric & Gas Corporation.

Description: § 205(d) Rate Filing: SGIA 2527 among NYISO, NYSEG & Duke Energy Renewables Solar—Scipio Solar to be effective 4/6/2020.

Filed Date: 4/20/20.

Accession Number: 20200420-5097.

Comments Due: 5 p.m. ET 5/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2020.
Nathaniel J. Davis, Sr.,
Deputy Secretary.

[FR Doc. 2020-08775 Filed 4-23-20; 8:45 am]

BILLING CODE 6717-01-P